DEPARTMENT OF THE INTERIOR

Bureau of Land Management

[OR-931-6320 HAG5-0122]

Notice of Availability of a Final Integrated Pest Management Program Environmental Impact Statement for the Provolt and Sprague Seed Orchards; Jackson and Josephine Counties, OR

AGENCY: Bureau of Land Management, Interior.

ACTION: Notice of availability.

SUMMARY: In accordance with Section 102 of the National Environmental Policy Act (NEPA), the Bureau of Land Management (BLM) announces the availability of a Final EIS that evaluates, analyzes, and discloses to the public direct, indirect, and cumulative environmental impacts of a proposed integrated pest management program at the Provolt and Sprague Seed Orchards in Jackson and Josephine Counties, Oregon, in BLM's Medford District. The integrated pest management program is proposed to control the insect, weed, animal, and disease problems at the orchards, and to maintain healthy, vigorous crop trees for the production of seed and other vegetative materials used for reforestation and a variety of land management actions.

DATES: Written comments on the Final EIS will be accepted for 30 days following the date that the Environmental Protection Agency (EPA) publishes its Notice of Availability in the Federal Register. BLM asks that those submitting comments on the Final EIS make them as specific as possible with reference to page numbers and chapters of the document. Comments will not receive a formal response; however, they will be considered and included as part of the BLM decision-making process.

Freedom of Information Act Considerations: Public comments submitted for this planning action, including names and street addresses of respondents, will be available for public review at the BLM Medford District Office, 3040 Biddle Road, Medford, Oregon, during regular business hours (7:45 a.m. to 4:30 p.m.), Monday through Friday, except holidays; or at the respective seed orchard locations, by appointment (see addresses and telephone numbers below). Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

ADDRESSES: Please address questions, comments, or requests for copies of the Final EIS to Mr. Gordon Lyford, Natural Resource Specialist, Provolt and Sprague Seed Orchards at 3040 Biddle Road, Medford, OR 97504, or by fax at 541-618-2400, or by e-mail to Medford_SPOEIS_Mail@or.blm.gov. A copy of the Final EIS has been sent to those persons who responded to BLM indicating that they wished to receive a copy of the Final EIS. Copies of the Final EIS will be available at Medford and Grants Pass public libraries located in Jackson and Josephine Counties, OR, and on the BLM Medford District Web site at http://www.or.blm.gov/medford/planning/medpest_eis_main.html. Public reading copies will also be available for review at the following locations:

Provolt Seed Orchard, 14171 Williams Highway, Grants Pass, OR 97527, 541-846-7296.

Sprague Seed Orchard, 1980 Russell Road, Merlin, OR 97532, 541-476-4432.

BLM Medford District Office, 3040 Biddle Road, Medford, OR 97504, 541-618-2200.

USDI Bureau of Land Management, Oregon State Office (OR931), 333 SW. First Avenue, Portland, OR 97204, 503-808-6002.

Bureau of Land Management Office of Public Affairs, Main Interior Building, Room 3321, 1849 C St., NW., Washington, DC 20240.

Background information and maps used in developing the Final EIS are available at the Medford District Office and the Oregon State Office in Portland.

FOR FURTHER INFORMATION CONTACT: Mr. Gordon Lyford, Natural Resource Specialist, Provolt and Sprague Seed Orchards at 3040 Biddle Road, Medford, OR 97504, 541-618-2401, Medford_SPOEIS_Mail@or.blm.gov.

SUPPLEMENTARY INFORMATION: The Final EIS analyzes three action alternatives and the no action alternative to manage pests at Provolt and Sprague. The alternatives can be summarized as follows:

Alternative A—Maximum Production Integrated Pest Management. Pests would be managed using all identified biological, chemical, prescribed fire, cultural, and other pest control methods, including aerial application by helicopter.

Alternative B—Integrated Pest Management with Environmental Protection Emphasis. Pests would be managed using all of the methods in Alternative A, with special exceptions designed to further protect workers' health and safety and the environment.

The limitations were based on results of the human health and ecological risk assessment, scoping comments, and consultation with the National Oceanic and Atmospheric Administration's Fisheries office under the Endangered Species Act.

Alternative C—Pest Management with No Pesticides. Pests would be managed using only the non-pesticide biological, prescribed fire, cultural, and other methods listed under Alternative A.

Alternative D—No Action: Continuation of Current Management Approach. The current management system allows for use of all non-pesticide pest control practices at the seed orchard, as well as the use of pesticides on a specific case-by-case basis. All non-pesticide biological, prescribed fire, cultural, and other methods would be used in accordance with current procedures. When a specific need is identified for a biological or chemical pesticide, the action would be reviewed to determine whether it is encompassed by an existing environmental assessment (EA) or EIS.

Agency Preferred Alternative: BLM's preferred alternative is Alternative B.

Public participation has occurred throughout the NEPA process. Two Notices of Intent were filed in the Federal Register (FR) on March 26, 1999 (64 FR 14747) and March 29, 2001 (66 FR 17192). An open house, mailouts, and a site visit were conducted during scoping to solicit comments and ideas. A written comment period of 60 days was provided for review of the Draft EIS, during which two public meetings were conducted at the Sprague Seed Orchard on July 14, 2003 from 1 to 3 p.m. and 5 to 7 p.m., and at the Provolt Seed Orchard on July 15, 2003 from 1 to 3 p.m. and 5 to 7 p.m. A new appendix in the Final EIS provides a complete set of public comments received on the Draft EIS, along with BLM's response to each comment.

Following the 30-day availability period that begins with publication of EPA's Federal Register Notice of Availability, BLM will issue a Record of Decision announcing selection of the alternative to be implemented. This forest management decision may be protested under 43 CFR 5003—Administrative Remedies. In accordance with 43 CFR 5003.2, the decision for this project will not be subject to protest until the publication of a notice of decision in a newspaper of general circulation, a minimum of 30 days after the Notice of Availability of this Final EIS. Protests of the decision must be filed with this office within 15 days of the publication of a notice of decision in the newspaper. If no protest is received by the close of business (4:30 p.m. Pacific Standard Time) on the 15th day, the decision will become final. If a timely protest is received, the decision will be reconsidered in light of the protest and other pertinent information available in accordance with 43 CFR 5003.3.

Timothy B. Reuwsaat,
District Manager.

[FR Doc. 05-14416 Filed 7-21-05; 8:45 am]

BILLING CODE 4310-33-P